DEPARTMENT OF DEFENSE

Department of the Navy

Notice of Record of Decision for the Final Supplemental Environmental Impact Statement for Developing Homeport Facilities for Three NIMITZ-Class Aircraft Carriers in Support of the U.S. Pacific Fleet at Naval Air Station North Island, Coronado, CA

AGENCY: Department of the Navy, DoD.

ACTION: Notice of Record of Decision.

SUMMARY: The Department of the Navy (Navy), after carefully weighing the operational and environmental consequences of the proposed action, announces its decision to upgrade carrier berthing (Berth LIMA) at Naval Air Station (NAS) North Island to comply with current nuclear-powered aircraft carrier (CVN) facility requirements. The minor infrastructure improvements include construction of: A fender system, mooring bollards, security building, and antiterrorism (AT)/force protection (FP) improvements, as well as the installation of information systems, electrical and mechanical utility upgrades, paving, drainage, and site improvements. In addition, the Navy announces its intent to implement additional vehicular traffic mitigation measures to address new facts and circumstances relevant to traffic. Although the 2008 Traffic Study included in the 2008 Final Supplemental Environmental Impact Statement (SEIS) shows that direct traffic impacts have not changed significantly since they were studied in the 1999 Final Environmental Impact Statement (FEIS), additional traffic mitigation measures minimize the cumulative effects of vehicular traffic when three homeported aircraft carriers are simultaneously in port.

SUPPLEMENTARY INFORMATION: The Record of Decision (ROD) has been distributed to all those individuals who requested a copy of the Final SEIS and agencies and organizations that received a copy of the Final SEIS. The complete text of the ROD is available for public viewing on the project Web site at http://www.nimitzcarriersseis.com/ along with copies of the Final SEIS and supporting documents. Single copies of the ROD will be made available upon request by contacting Mr. Robert Montana, Naval Facilities Engineering Command Southwest, 2730 McKean Street, Building 291, San Diego, CA 92136, telephone: 619-556-8509.

Dated: February 2, 2009.
A.M. Vallandingham,
Lieutenant Commander, Judge Advocate General's Corps, U.S. Navy, Federal Register Liaison Officer.

[FR Doc. E9-2479 Filed 2-4-09; 8:45 am]

BILLING CODE 3810-FF-P